FEDERAL MARITIME COMMISSION

Notice of Request for Additional Information; Correction

AGENCY: Federal Maritime Commission.

ACTION: Notice; correction.

DATES: The date for submission of comments by interested parties is extended to fifteen (15) days after publication of this correction in the Federal Register.

SUMMARY: The Federal Maritime Commission published a document in the Federal Register on July 17, 2015, indicating it has formally requested that the parties to the Pacific Ports Operational Improvements Agreement (FMC Agreement Nos. 201227-002 and 201227-003) provide additional information pursuant to 46 U.S.C. 40304(d). This action prevents the Agreement amendment from becoming effective as originally scheduled. The notice erroneously did not list each of the parties to the Agreement.

FOR FURTHER INFORMATION CONTACT: Karen V. Gregory, 202-523-5725.

Correction

In the Federal Register of July 17, 2015, in FR Doc. 2015-17521, on page 42496, in the third column, correct the “Parties” caption to read:

Parties: Ocean Carrier Equipment Management Association, Inc.; West Coast MTO Agreement; Maersk Line A/S; APL Co. Pte Ltd.; American President Lines, Ltd.; CMA CGM S.A.; Cosco Container Lines Company Limited; Evergreen Line Joint Service Agreement FMC Agreement No. 011982; Hamburg-Sud; Alianca Navegacao e Logistica Ltda.; Hanjin Shipping Co., Ltd.; Hapag-Lloyd AG; Hapag-Lloyd USA; Companhia Libra de Navegacao; Compania Libra de Navegacion Uruguay S.A.; Mitsui O.S.K. Lines, Ltd.; Nippon Yusen Kaisha Line; Kawasaki Kisen Kaisha, Ltd.; APM Terminals Pacific, Ltd.; California United Terminals, Inc.; Eagle Marine Services, Ltd.; International Transportation Service, Inc.; Long Beach Container Terminal, Inc.; Seaside Transportation Service LLC; Trapac, Inc.; Total Terminals LLC; West Basin Container Terminal LLC; Yusen Terminals, Inc.; Pacific Maritime Services, L.L.C.; SSA Terminals, LLC; SSA Terminal (Long Beach), LLC.; Hyundai Merchant Marine Co., Ltd.; Zim Integrated Shipping Services; Matson Navigation Company, Inc.; SSA Terminals (Oakland), LLC; SSA Terminals (Seattle), LLC; Sea Star Stevedoring Company, Inc.; Washington United Terminals, Inc.

Dated: July 17, 2015.
Rachel E. Dickon,
Assistant Secretary.

[FR Doc. 2015-17997 Filed 7-21-15; 8:45 am]

BILLING CODE 6730-01-P